ENVIRONMENTAL PROTECTION AGENCY

[EPA-HQ-OW-2008-0357; FRL 9510-5]

Agency Information Collection Activities; Submission to OMB for Review and Approval; Comment Request; BEACH Act Grant Program (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 22, 2012.

ADDRESSES: Submit your comments, referencing Docket ID No. EPA-HQ-OW-2008-0357, to (1) EPA online using www.regulations.gov (our preferred method), by email to ow-docket@epa.gov, or by mail to: EPA Docket Center, Environmental Protection Agency, Water Docket, Environmental Protection Agency, Mailcode: 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Lars Wilcut, Standards and Health Protection Division, Office of Science and Technology, (4305T), Environmental Protection Agency, 1200 Pennsylvania Ave. NW., Washington, DC 20460; telephone number: (202) 566-0447; fax number: (202) 566-0409; email address: wilcut.lars@epa.gov.

SUPPLEMENTARY INFORMATION: EPA has submitted the following ICR to OMB for review and approval according to the procedures prescribed in 5 CFR 1320.12. On September 20, 2011 (76 FR 58266), EPA sought comments on this ICR pursuant to 5 CFR 1320.8(d). EPA received no comments. Any additional comments on this ICR should be submitted to EPA and OMB within 30 days of this notice.

EPA has established a public docket for this ICR under Docket ID No. EPA-HQ-OW-2008-0357, which is available for online viewing at www.regulations.gov, or in person viewing at the Water Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is (202) 566-1744, and the telephone number for the Water Docket is (202) 566-2426.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: BEACH Act Grant Program (Renewal).

ICR numbers: EPA ICR No. 2048.04, OMB Control No. 2040-0244.

ICR Status: This ICR is currently scheduled to expire on January 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Beaches Environmental Assessment and Coastal Health (BEACH) Act amends the Clean Water Act (CWA) in part and authorizes the U.S. Environmental Protection Agency (EPA) to award BEACH Act Program Development and Implementation Grants to coastal and Great Lakes states, tribes, and territories (collectively referred to as states) for their beach monitoring and notification programs. The grants will assist those states to develop and implement a consistent approach to monitor recreational water quality; assess, manage, and communicate health risks from waterborne microbial contamination; notify the public of pollution occurrences; and post beach advisories and closures to prevent public exposure to microbial pathogens. To qualify for a BEACH Act Grant, a state must submit information to the EPA documenting that its beach monitoring and notification program is consistent with nine performance criteria outlined in the National Beach Guidance and Required Performance Criteria for Grants. For the EPA to award a BEACH Implementation Grant, a state must document that its coastal monitoring and notification program includes or will include the following:

• A risk-based beach evaluation and classification plan.

• A sampling design and monitoring implementation plan.

• Monitoring report submission and delegation procedures.

• Methods and assessment procedures.

• A public notification and risk communication plan.

• Measures to notify the EPA and local governments.

• Measures to notify the public.

• Notification report submission and delegation procedures.

• Public evaluation of the program.

Beach program information will be collected by the EPA's Office of Science and Technology and the applicable EPA regions. All information except the monitoring and notification reports will be stored in the applicable regions. The monitoring and notification information will be stored in the eBEACHES Database and displayed on the EPA's Beaches Web site for use by the public, state environmental and public health agencies, and the EPA.

Burden Statement: The annual public reporting and recordkeeping burden for this collection of information is estimated to average 2,400 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State environmental and public health agencies in coastal or Great Lakes regions.

Estimated Number of Respondents: 37.

Frequency of Response: Submitting monitoring and notification reports: quarterly; all other reporting: Annual.

Estimated Total Annual Hour Burden: 88,800.

Estimated Total Annual Cost: $11,463,626. This includes an estimated burden cost of $7,520,546 and an estimated cost of $3,943,080 for maintenance and operational costs.

Changes in the Estimates: There is a decrease of 6,147 hours in the total estimated respondent burden compared with that identified in the ICR currently approved by OMB. This decrease is primarily due to a reduction in the estimated number of respondents, as the three tribes who had previously been expected to apply for grants have not done so. EPA expects that no new jurisdictions will become eligible for BEACH Act grant in the next three years. There is a slight increase in the per respondent burden due to EPA's expectation that states will voluntarily report monitoring and notification data more frequently in order to improve public health protection at beaches through increased timeliness of water quality results at beaches nationwide. However the burden of this increased frequency is somewhat offset by increased efficiency in reporting due to technological improvements to data systems such as eBEACHES.

John Moses,
Director, Collection Strategies Division.

[FR Doc. 2012-1182 Filed 1-20-12; 8:45 am]

BILLING CODE 6560-50-P